DEPARTMENT OF ENERGY

Federal Energy Regulatory Commission

[Docket No. ER04-1197-000]

Allegheny Energy Supply Company, LLC, Allegheny Energy Supply Gleason Generating Facility, LLC, Allegheny Energy Supply Hunlock Creek, LLC, Allegheny Energy Supply Lincoln Generating Facility, LLC, Allegheny Energy Supply Wheatland Generating Facility, LLC, Buchanan Generation, LLC, and Green Valley Hydro, LLC; Notice of Filing

September 14, 2004.

On August 18, 2004, Allegheny Energy Supply Company, LLC (AE Supply) and its affiliates, Allegheny Energy Supply Gleason Generating Facility, LLC; Allegheny Energy Supply Hunlock Creek, LLC; Allegheny Energy Supply Lincoln Generating Facility, LLC; Allegheny Energy Supply Wheatland Generating Facility, LLC; Buchanan Generation, LLC; and Green Valley Hydro, LLC (collectively, AE Supply Affiliates), in Docket No. ER00-814-000, et al., submitted proposed revisions to the Code of Conduct sections of their FERC Electric Tariffs to comply with the Commission's November 17, 2003 Order in Docket Nos. EL01-118-000 and 001. On August 25, 2004 the Commission issued a “Notice of Filing” in Docket No. ER00-814-000, et al., regarding the August 18 Filing. An Errata correcting one of the associated subdockets listed in the August 25 Notice is being issued today, September 14, 2004. The August 25 Notice established September 8, 2004 as the deadline for submitting interventions or protests to August 18 filing.

The August 18 filing by AE Supply and the AE Supply Affiliates included proposed revisions to their tariffs associated with the harmonization of the Codes of Conduct among AE Supply and AE Supply Affiliates and proposed revisions associated with brokering provisions. Docket No. ER04-1197-000 has been assigned to the harmonization and brokering provisions included in the August 18, 2004 filing and those revisions are the subject of the instant notice.

Any person desiring to intervene or to protest the harmonization and brokering provisions in the August 18, 2004 filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on September 24, 2004.

Linda Mitry,
Acting Secretary.

[FR Doc. E4-2251 Filed 9-17-04; 8:45 am]

BILLING CODE 6717-01-P